DEPARTMENT OF ENERGY

Western Area Power Administration

Solicitation of Interest for Transmission Line Projects Under EPAct05 Section 1222 Associated With Renewable Generation Sources

AGENCY: United States Department of Energy, Western Area Power Administration.

ACTION: Request for Statements of Interest.

SUMMARY: The United States Department of Energy (DOE or Department), acting through the Western Area Power Administration (Western), a power marketing administration within the Department, is seeking Statements of Interest (SOIs) from entities that are interested in providing contributed funds for Western's participation in the upgrade of Western's existing transmission facilities or the construction of new transmission line projects in the states in which Western operates. The purpose of the request for SOIs is to identify potential projects which would facilitate the transmission of wind generation or other renewable generation sources to load centers under the authority granted the Secretary of Energy in section 1222 of the Energy Policy Act of 2005 (EPAct05) (Pub. L. 109-58; 119 Stat. 952).

DATES: To be assured of consideration, all SOIs should be received by Western by January 5, 2009.

ADDRESSES: SOIs should be mailed to: Ms. Laverne Kyriss, Senior Planning Advisor, Corporate Services Office, Western Area Power Administration, P.O. Box 281213, Lakewood, CO 80228-8213. SOIs may also be e-mailed to kyriss@wapa.gov.

FOR FURTHER INFORMATION CONTACT: For further information concerning the SOIs, contact: Ms. Laverne Kyriss, Senior Planning Advisor, Corporate Services Office, Western Area Power Administration, P.O. Box 281213, Lakewood, CO 80228-8213, telephone (720) 962-7170, e-mail kyriss@wapa.gov.

SUPPLEMENTARY INFORMATION: Pursuant to section 9(c) of the Reclamation Project Act of 1939 (43 U.S.C. 485h(c)) and section 5 of the Flood Control Act of 1944 (16 U.S.C. 825s), Western, a DOE agency, markets and transmits wholesale electrical power from 57 power generation facilities owned and operated primarily by the U.S. Bureau of Reclamation and the U.S. Army Corps of Engineers to cooperatives, Native American tribes, government agencies, and municipalities. Western markets power over 17,000 miles of high-voltage transmission lines in the states of Arizona, California, Colorado, Iowa, Kansas, Minnesota, Montana, Nebraska, Nevada, New Mexico, North Dakota, South Dakota, Texas, Utah, and Wyoming. Western operates in these 15 states under federal reclamation law and may receive funds under the Contributed Funds Act (43 U.S.C. 395) to fund work for operations permitted under reclamation law, i.e. projects that are used to transport federally produced electricity.

Since 2005, the Secretary of Energy (Secretary), acting through the Administrators of Western or the Southwestern Power Administration (Southwestern), has had the authority to accept contributed funds under section 1222(c) of EPAct05 to design, develop, construct, operate, maintain, or own, or participate with other entities in designing, developing, constructing, operating, maintaining, or owning, an electric power transmission facility and related facilities needed to upgrade existing transmission facilities owned by Western and Southwestern if the electric transmission facilities are located in a national interest electric transmission corridor designated pursuant to section 216 of the Federal Power Act (16 U.S.C. 824o), or are necessary to accommodate an actual or projected increase in demand for electric transmission capacity. Section 1222(b) of EPAct05 gives the Secretary, acting through the Administrators of Western or Southwestern, authority for developing new electric transmission facilities, similar to that provided in section 1222(a) for existing facilities, in states in which Western and Southwestern operate. Section 1222(c) provides for the Secretary to accept and use funds contributed by another entity for the purpose of carrying out a project. Section 1222(g) of EPAct05 provides that through September 30, 2015, the Secretary may accept no more than $100 million from other entities for use in developing projects. In order to exercise these authorities, the Secretary, in consultation with the applicable Administrator, must make certain determinations provided in section 1222 of EPAct05 with respect to the project.

Given the economic, environmental, and national security benefits flowing from the use of electricity generated from renewable energy resources, Western is seeking SOIs from entities that are interested in providing contributed funds for Western's participation in the design, development, construction, operation, maintenance, or ownership of upgraded or new transmission projects that would facilitate the transmission of wind generation or other renewable generation sources from remote locations to distant load centers. While Western will consider all projects outlined in the SOIs received for ultimate recommendation to the Secretary, there are specific existing electric transmission corridors that currently contain Western transmission facilities (both transmission lines and intermediate substations) that could transmit significant quantities of electricity generated from renewable resources to load centers if upgrades to existing facilities were made or new facilities built. These include:

1. Antelope Valley Substation in west-central North Dakota to Sioux City Substation in western Iowa (approximately 700 miles);

2. Miracle Mile Substation in central Wyoming to Stegall Substation in western Nebraska (approximately 200 miles), continuing about 100 miles to Ault Substation in northern Colorado; and

3. Mead Substation in southern Nevada to Gila Substation in southwestern Arizona (approximately 250 miles).

SOIs submitted with respect to the facilities outlined above, or any other proposed upgrade or new transmission projects should include the following information:

1. Name and general description of the entity submitting the SOI.

2. Name, mailing address, telephone number, facsimile number, and e-mail address of that entity's primary contact.

3. A description of the proposed transmission project including project location (location must be within states in which Western operates), minimum transfer capability, descriptions of any previous transmission work done for the proposed project (plan of service, cost estimate, schedule, system studies, environmental activity, siting activity, etc.), and any other information that would be useful in evaluating the proposed transmission project.

4. Description of the renewable energy resources the proposed project would serve, including type(s) of renewable resource, size and general location of the resource, general location of load or markets, availability of generation-related ancillary services, a description of the entity's involvement in the renewable energy resource, if any, and any other information that would be useful in evaluating the project.

5. Amount of transmission rights or long-term transmission service the entity may desire if and when the project is completed.

6. The proposed role that Western might play in the development of the transmission project.

7. The amount of funds the entity might be willing to contribute to Western to accomplish its role.

8. A brief description of any other information that would be useful in evaluating the SOI. Each SOI will be evaluated by Western based on the feasibility of developing a project that meets the criteria set forth in EPAct05 section 1222, while advancing the goal of facilitating the transmission of wind generation or other renewable generation sources from remote locations to distant load centers. Given the $100 million limit through September 30, 2015, on the Secretary's authority to accept contributed funds, the SOIs received in response to this request, and the request for SOIs simultaneously being issued by Southwestern, will be evaluated through a competitive evaluation process.

Environmental Compliance

In compliance with the National Environmental Policy Act of 1969 (NEPA) (42 U.S.C. 4321, et seq.); the Council on Environmental Quality Regulations for implementing NEPA (40 CFR parts 1500-1508); and DOE NEPA Implementing Procedures and Guidelines (10 CFR part 1021), Western has determined this action is categorically excluded from further NEPA analysis. Future actions that the Secretary and Western may undertake under EPAct05 section 1222 as a result of this request will undergo separate NEPA analysis on a project by project basis.

Dated: November 13, 2008.
Timothy J. Meeks,
Administrator.

[FR Doc. E8-27721 Filed 11-20-08; 8:45 am]

BILLING CODE 6450-01-P